SECURITIES AND EXCHANGE COMMISSION

Sunshine Act Meetings

FEDERAL REGISTER CITATION OF PREVIOUS ANNOUNCEMENT: 85 FR 35966, June 12, 2020.

PREVIOUSLY ANNOUNCED TIME AND DATE OF THE MEETING: Wednesday, June 17, 2020 at 2:00 p.m.

CHANGES IN THE MEETING: The Closed Meeting scheduled for Wednesday, June 17, 2020 at 2:00 p.m. has been changed to Wednesday, June 17, 2020 at 12:30 p.m.

CONTACT PERSON FOR MORE INFORMATION: For further information and to ascertain what, if any, matters have been added, deleted or postponed, please contact Vanessa A. Countryman, Secretary, in the Office of the Secretary at (202) 551-5400.

Dated: June 12, 2020.
Vanessa A. Countryman,
Secretary.

[FR Doc. 2020-13089 Filed 6-15-20; 11:15 am]

BILLING CODE 8011-01-P